UNIFIED CARRIER REGISTRATION PLAN

Sunshine Act Meetings

TIME AND DATE: November 19, 2025, 12:00 p.m. to 3:00 p.m., Eastern time.

PLACE: The meeting will be accessible via conference call and via Zoom Meeting and Screenshare. Any interested person may call (i) 1-929-205-6099 (US Toll) or 1-669-900-6833 (US Toll), Meeting ID: 953 1223 4881, to listen and participate in this meeting. The website to participate via Zoom Meeting and Screenshare is https://kellen.zoom.us/meeting/register/tp5wVXiuQ9yWGALLzp44hg.

STATUS: This meeting will be open to the public.

MATTERS TO BE CONSIDERED: The Unified Carrier Registration Plan Industry Advisory Subcommittee (the “Subcommittee”) will conduct a meeting to continue its work in developing and implementing the Unified Carrier Registration Plan and Agreement. The subject matter of this meeting will include:

Proposed Agenda

I. Call to Order—UCR Industry Advisory Subcommittee Chair

The Industry Advisory Subcommittee Chair will welcome attendees, call the meeting to order, call roll for the Industry Advisory Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda—UCR Industry Advisory Subcommittee Chair

For Discussion and Possible Subcommittee Action

The proposed Agenda will be reviewed, and the Subcommittee will consider adoption.

Ground Rules

➢ Subcommittee action only to be taken in designated areas on agenda.

IV. Review and Approval of Minutes from the May 15, 2024, Meeting—UCR Industry Advisory Subcommittee Chair

For Discussion and Possible Subcommittee Action

Draft minutes from the May 15, 2024, Industry Advisory Subcommittee meeting via teleconference will be reviewed. The UCR Industry Advisory Subcommittee will consider action to approve.

V. Discussion of and Possible Recommendations on Topics To Be Discussed at the Governance Task Force on November 20, 2025—UCR Industry Advisory Subcommittee Chair

For Discussion and Possible Subcommittee Action

The UCR Industry Advisory Subcommittee Chair will discuss items to be deliberated at the Governance Task Force on November 20, 2025, including, intent of the UCR as to whom it applies, allowed purposes for use of registration fees, initial calculation of state cap amounts, whether the costs of a state to administer and operate the UCR Act in that state would have been properly included in the initial cap amount submitted for each state, the commitment made by each participating state when it filed its State Plan, what is meant by the language of the UCR Act giving the Board authority to “audit', what is the term “administrative costs” available to the Board means, what is the legislative charge of the Board, the RFP process for hiring UCR Plan contractors, and the Board policy for calculation and distribution of the money from the Depository to under capped states in years where the combined cap amount of all participating states will not be met. The UCR Industry Advisory Subcommittee may vote to make recommendations on the topics listed above to the Governance Task Force and/or the UCR Plan Board.

VI. Other Items—UCR Industry Advisory Subcommittee Chair

The UCR Industry Advisory Subcommittee Chair will call for any other items Subcommittee members would like to discuss.

VII. Adjournment—UCR Industry Advisory Subcommittee Chair

The UCR Industry Advisory Subcommittee Chair will adjourn the meeting.

The agenda will be available no later than 5:00 p.m. Eastern time, November 11, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-20009 Filed 11-13-25; 4:15 pm]

BILLING CODE 4910-YL-P